FEDERAL COMMUNICATIONS COMMISSION

47 CFR Part 73

[MB Docket No. 25-14; RM-11994; DA 25-66; FR ID 275581]

Television Broadcasting Services Monroe, Louisiana

AGENCY: Federal Communications Commission.

ACTION: Proposed rule.

SUMMARY: The Video Division, Media Bureau (Bureau), has before it a petition for rulemaking filed by Louisiana Educational Television Authority (LETA or Petitioner) on January 10, 2025, as amended January 14, 2025, the licensee of noncommercial educational television PBS member station KLTM-TV, channel *13, Monroe, Louisiana (Station or KLTM). Petitioner requests that the Bureau substitute channel *29 for channel *13 at Monroe in the Table of TV Allotments (Table).

DATES: Comments must be filed on or before March 17, 2025 and reply comments on or before March 31, 2025.

ADDRESSES: Federal Communications Commission, Office of the Secretary, 45 L Street NE, Washington, DC 20554. In addition to filing comments with the FCC, interested parties should serve counsel for the Petitioner as follows: Brad Deutsch, Foster Garvey P.C., 3000 K St. NW, Suite 420, Washington, DC 20007.

FOR FURTHER INFORMATION CONTACT: Emily Harrison, Media Bureau, at Emily.Harrison@fcc.gov, (202) 418-1665, or Mark Colombo, Media Bureau, at Mark.Colombo@fcc.gov, (202) 418-7611.

SUPPLEMENTARY INFORMATION: In support of its channel substitution request, the Petitioner asserts that allowing the Station to move from a VHF to a UHF channel would serve the public interest by addressing ongoing reception complaints the Station has received from numerous viewers, significantly improving the Station's over-the-air-service to the viewers in its existing service area, and “enabling the Station to better serve the Monroe community by substantially improving viewer access to the Station's noncommercial educational and public affairs programming.” Petitioner states that since the digital transition and commencement of digital television operations on high-band VHF channel *13 in 2009, the Station has consistently received viewer complaints of poor reception and interference. The Petitioner states that the Commission has recognized that “environmental noise blockages affecting [VHF] signal strength and reception exist” and “[vary] widely from service area to service area.”

An engineering statement provided by the Petitioner confirms that the proposed channel *29 contour would provide full principal community coverage to Monroe. The proposed move from channel *13 to channel *29 is also not predicted to create a loss of service to any viewers. Petitioner's engineering statement also confirms that the proposed channel substitution contour would not cause impermissible interference to any other licensed facilities. The proposed channel *29 facility would remain at its current transmission site and operate at an effective radiated power (ERP) of 1,000 kW and height above average terrain (HAAT) of 544.5 meters.

We believe that the Petitioner's channel substitution proposal for KLTM warrants consideration. Based on an analysis by Bureau staff, channel *29 can be substituted for channel *13 as proposed, in compliance with the principal community coverage requirements of § 73.618 of the Commission's rules (Rules), at coordinates 32-11-51″ N+ and 92-4-14.0″ W−. In addition, we find that this channel change meets the technical requirements set forth in § 73.622(a) of the Rules. The substitution of channel *29 for channel *13 in the Table will also allow Petitioner to construct its new facility on a UHF channel and avoid the known viewer receptions issues on its currently authorized VHF channel.

This is a synopsis of the Commission's Notice of Proposed Rulemaking, MB Docket No. 25-14; RM-11994; DA 25-66, adopted January 17, 2025, and released January 17, 2025. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a notice of proposed rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

Providing Accountability Through Transparency Act: The Providing Accountability Through Transparency Act, Public Law 118-9, requires each agency, in providing notice of a rulemaking, to post online a brief plain-language summary of the proposed rule. The required summary of this notice of proposed rulemaking is available at https://www.fcc.gov/proposed-rulemakings.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.622, in the table in paragraph (j), under Louisiana, revise the entry for “Monroe” to read as follows:

§ 73.622 Digital television table of allotments.

* * * * *

(j) * * *

Community | Channel No.
* * * * *
Louisiana
* * * * *
Monroe | 24, * 29
* * * * *

* * * * *

[FR Doc. 2025-02867 Filed 2-27-25; 8:45 am]

BILLING CODE 6712-01-P